DEPARTMENT OF HEALTH AND HUMAN SERVICES

Meeting of the President's Council on Sports, Fitness, and Nutrition; Correction

AGENCY: Department of Health and Human Services, Office of the Secretary, Office of the Assistant Secretary for Health, President's Council on Sports, Fitness, and Nutrition.

ACTION: Notice of meeting; correction.

SUMMARY: The Department of Health and Human Services published a document in the Federal Register of July 27, 2018, concerning the upcoming annual meeting of the President's Council on Sports, Fitness, and Nutrition (PCSFN). The document contained an incorrect location and time.

FOR FURTHER INFORMATION CONTACT: Ms. Holli M. Richmond, Executive Director, Office of the President's Council on Sports, Fitness, and Nutrition, Tower Building, 1101 Wootton Parkway, Suite 560, Rockville, MD 20852, (240) 276-9567.

Correction

In the Federal Register of July 27, 2018, in FR Vol. 83 No. 145, on page 35662, in the second column, correct the Dates and Addresses captions to read:

DATES: The meeting will be held on September 21, 2018, from 9:00 a.m. to 12:30 p.m.

ADDRESSES: Hubert H. Humphrey Building, 200 Independence Avenue SW, Room 800, Washington, DC 20201.

Dated: August 1, 2018.
Holli M. Richmond,
Executive Director, Office of the President's Council on Sports, Fitness, and Nutrition, U.S. Department of Health and Human Services.

[FR Doc. 2018-16969 Filed 8-7-18; 8:45 am]

BILLING CODE 4150-35-P